NUCLEAR REGULATORY COMMISSION

[NRC-2009-0303]

Notice of Availability of Draft Interim Staff Guidance Document for Fuel Cycle Facilities

AGENCY: Nuclear Regulatory Commission.

ACTION: Notice of availability.

FOR FURTHER INFORMATION CONTACT: Tamara D. Powell, Nuclear Process Engineer, Technical Support Branch, Division of Fuel Cycle Safety and Safeguards, Office of Nuclear Material Safety and Safeguards, U.S. Nuclear Regulatory Commission, Washington, DC 20005-0001. Telephone: (301) 492-3211; Fax: (301) 492-3363; E-mail: Tamara.Powell@nrc.gov.

SUPPLEMENTARY INFORMATION:

I. Introduction

The U.S. Nuclear Regulatory Commission (NRC) continues to prepare and issue Interim Staff Guidance (ISG) documents for fuel cycle facilities. These ISG documents provide clarifying guidance to the NRC staff when reviewing licensee integrated safety analyses, license applications, amendment requests, or other related licensing activities for fuel cycle facilities under Title 10 of the Code of Federal Regulations (10 CFR) part 70. Draft FCSS-ISG-11, Revision 0, “10 CFR part 70, Appendix A—Reportable Safety Events,” Revision 0, is now being issued for public comments.

II. Summary

The purpose of this notice is to notify the public of the availability for review and comments of Draft FCSS-ISG-11, Revision 0, “10 CFR part 70, Appendix A—Reportable Safety Events,” which provides guidance addressing the event reporting criteria in Appendix A to 10 CFR part 70.

Upon receiving public comments, the NRC staff will evaluate the comments and make a determination whether or not to incorporate the comments, as appropriate. The NRC staff will incorporate the guidance from the approved ISG into a future regulatory guide on event reporting requirements for fuel cycle facility licensees.

DATES: Comments may be submitted by August 10, 2009. Comments received after this date will be considered, if it is practical to do so, but the NRC is able to ensure consideration only for comments received on or before this date.

ADDRESSES: You may submit comments by any one of the following methods. Please include Docket ID NRC-2009-0303 in the subject line of your comments. Comments submitted in writing or in electronic form will be posted on the NRC Web site and on the Federal rulemaking Web site Regulations.gov. Because your comments will not be edited to remove any identifying or contact information, the NRC cautions you against including any information in your submission that you do not want to be publicly disclosed.

We request that any party soliciting or aggregating comments received from other persons for submission to the NRC inform those persons that the NRC will not edit their comments to remove any identifying or contact information, and therefore they should not include any information in their comments that they do not want publicly disclosed.

Federal Rulemaking Web site: Go to http://www.regulations.gov and search for documents filed under Docket ID NRC-2009-0303. Address questions about NRC dockets to Carol Gallagher 301-492-3668; e-mail Carol.Gallagher@nrc.gov.

Mail comments to: Michael T. Lesar, Chief, Rulemaking and Directives Branch (RDB), Office of Administration, Mail Stop: TWB-05-B01M, U.S. Nuclear Regulatory Commission, Washington, DC 20555-0001, or by fax to RDB at (301) 492-3446.

III. Further Information

The NRC maintains an Agencywide Documents Access and Management System (ADAMS), which provides text and image files of NRC's public documents. These documents may be accessed through the NRC's Public Electronic Reading Room on the Internet at http://www.nrc.gov/reading-rm/adams.html. The ADAMS accession number for the document related to this notice is provided in the following table.

Interim staff guidance | ADAMS Accession Number
FCSS Interim Staff Guidance-11, Revision 0 | ML091730073

This document may also be viewed electronically on the public computers located at the NRC's PDR, O1-F21, One White Flint North, 11555 Rockville Pike, Rockville, MD 20852. The PDR reproduction contractor will copy documents for a fee. Persons who do not have access to ADAMS or who encounter problems in accessing the documents located in ADAMS should contact the NRC Public Document Room (PDR) reference staff at 1 (800) 397-4209, (301) 415-4737, or via e-mail to pdr@nrc.gov.

Dated at Rockville, Maryland, this 30th day of June 2009.
For the Nuclear Regulatory Commission.
Marissa G. Bailey,
Deputy Director, Special Projects and Technical Support Directorate, Division of Fuel Cycle Safety and Safeguards, Office of Nuclear Material Safety and Safeguards.

[FR Doc. E9-16352 Filed 7-9-09; 8:45 am]

BILLING CODE 7590-01-P